DEPARTMENT OF COMMERCE

National Oceanic and Atmospheric Administration

Proposed Information Collection; Comment Request; Socioeconomic Monitoring Program for the Channel Islands National Marine Sanctuary

AGENCY: National Oceanic and Atmospheric Administration (NOAA).

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before August 7, 2006.

ADDRESSES: Direct all written comments to Diana Hynek, Departmental Paperwork Clearance Officer, Department of Commerce, Room 6625, 14th and Constitution Avenue, NW., Washington, DC 20230 (or via the Internet at dHynek@doc.gov).

FOR FURTHER INFORMATION CONTACT: Requests for additional information or copies of the information collection instrument and instructions should be directed to Dr. Vernon R. (Bob) Leeworthy, 301-713-3000, extension 138, or Bob.Leeworthy@noaa.gov.

SUPPLEMENTARY INFORMATION:

I. Abstract

The purpose of this information collection is to give users of the Channel Islands National Marine Sanctuary fair representation in monitoring the socioeconomic impacts of a network of marine reserves (no take areas) in the Channel Islands by implementing a 3-year monitoring program. The proposed information collection is a follow-up to the previous efforts that established baseline estimates of socioeconomic activities in the Channel Islands National Marine Sanctuary. The baseline information was used to estimate the expected impacts of implementing proposed marine reserves. The new information will be used in a monitoring program to test whether, and to what extent, the estimated “expected” socioeconomic impacts actually occur.

II. Method of Collection

Respondents complete paper forms, assisted by a NOAA data collector.

III. Data

OMB Number: 0648-0408.

Form Number: None.

Type of Review: Regular submission.

Affected Public: Business or other for-profit organizations; individuals or households; not-for-profit institutions.

Estimated Number of Respondents: 815.

Estimated Time per Response: Interviews with commercial fishermen, wholesale processors, for hire recreation vessel owners/operators: 2 hours; and interviews with customers of for hire recreation vessels: 50 minutes.

Estimated Total Annual Burden Hours: 1,235.

Estimated Total Annual Cost to Public: $0.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: June 1, 2006.
Gwellnar Banks,
Management Analyst, Office of the Chief Information Officer.

[FR Doc. E6-8755 Filed 6-5-06; 8:45 am]

BILLING CODE 3510-NK-P